Proclamation 8491 of April 1, 2010

National Donate Life Month, 2010

By the President of the United States of America

A Proclamation

As Americans, we can demonstrate our commitment to one another in the most difficult of circumstances through organ, tissue, stem cell, and blood donation. During National Donate Life Month, we honor donors who provide others with a second chance for a healthy life and encourage more Americans to share this precious gift.

Today, over 100,000 Americans await donation on the Organ Procurement and Transplantation Network waiting list. Many will receive a lifesaving transplant, but, for some, help will not come fast enough. Whether they are coping with kidney failure or recovering from severe injuries, these individuals’ lives depend on the compassion of a loved one or a complete stranger. Across our country, we face a shortage of donors and an urgent need for help. We must respond with the spirit of generosity that has always defined our national character.

Each organ or tissue donor can save many lives, and becoming one is simple: join your State’s donor registry, indicate your decision on your driver’s license, and inform loved ones of your decision. There is no age limit for donors, and because some conditions and blood types are more common in certain ethnic and racial populations, the Department of Health and Human Services especially encourages minorities to consider donation.

Visit OrganDonor.gov to learn more about the urgent need for donors and to find resources on how to donate. Together, we can save lives and give hope to countless American families.

NOW, THEREFORE, I, BARACK OBAMA, President of the United States of America, by virtue of the authority vested in me by the Constitution and the laws of the United States, do hereby proclaim April 2010 as National Donate Life Month. I call upon health care professionals, volunteers, educators, government agencies, faith-based and community groups, and private organizations to join forces to boost the number of organ, tissue, blood, and stem cell donors throughout our Nation.

IN WITNESS WHEREOF, I have hereunto set my hand this first day of April, in the year of our Lord two thousand ten, and of the Independence of the United States of America the two hundred and thirty-fourth.

[FR Doc. 2010-8026

Filed 4-6-10; 8:45 am]

Billing code 3195-W0-P